DEPARTMENT OF VETERANS AFFAIRS

Privacy Act of 1974

AGENCY: Department of Veterans Affairs (VA).

ACTION: Notice of New System of Records.

SUMMARY: The Privacy Act of 1974 (5 U.S.C. 552(e)(4)) requires that all agencies publish in the Federal Register a notice of the existence and character of their systems of records. Notice is hereby given that the Department of Veterans Affairs (VA) is establishing a new system of records entitled “Enrollment and Eligibility Records-VA” (147VA16) formerly included and described in the “Health Eligibility Records-VA” (89VA19) system of records last amended in the Federal Register on May 18, 2001, which has been renamed, “Income Verification Records” 66 FR 27752 (May 18, 2001).

DATES: Comments on this new system of records must be received no later than April 24, 2008. If no public comment is received, or unless otherwise published in the Federal Register by VA, the new system will become effective April 24, 2008.

ADDRESSES: Written comments may be submitted through http://www.Regulations.gov; by mail or hand delivery to the Director, Regulations Management (00REG), Department of Veterans Affairs, 810 Vermont Ave., NW., Room 1068, Washington, DC 20420; or by fax to (202) 273-9026. Copies of comments received will be available for public inspection in the Office of Regulation Policy and Management, Room 1063B, between the hours of 8 a.m. and 4:30 p.m. Monday through Friday (except holidays). Please call (202) 273-9515 for an appointment. In addition, during the comment period, comments may be viewed online through the Federal Docket Management System (FDMS) at http://www.Regulations.gov.

FOR FURTHER INFORMATION CONTACT: Stephania H. Putt, Veterans Health Administration (VHA) Privacy Officer, Department of Veterans Affairs, 810 Vermont Avenue, NW., Washington, DC 20420, telephone (704) 245-2492.

SUPPLEMENTARY INFORMATION: Background: Title 38 U.S.C. Section 1705 requires VHA to establish a system of annual patient enrollment to manage the delivery of health care.

I. Description of Proposed Systems of Records

This system of records is used to establish and maintain applicants' records necessary to support the delivery of health care benefits; establish applicants' eligibility for VA health care benefits; to operate an annual enrollment system; provide eligible veterans with an identification card; collect from applicants' health insurance provider for care of their nonservice-connected conditions; provide educational materials related to VA health care benefits, enrollment, and eligibility; respond to veteran and non-veteran inquiries related to VA health care benefits, enrollment, and eligibility; and compile management reports.

II. Proposed Routine Use Disclosures of Data in the System

To the extent that records contained in the system include information protected by 45 CFR Parts 160 and 164, (i.e., individually-identifiable health information) that information cannot be disclosed under a routine use unless there is also specific regulatory authority in 45 CFR Parts 160 and 164 permitting disclosure. VA may disclose protected health information pursuant to the following routine uses where required by law, or required or permitted by 45 CFR Parts 160 and 164.

1. VA may disclose information from this system of records, as deemed necessary and proper, to named individuals serving as accredited service organization representatives and other individuals named as approved agents or attorneys for a documented purpose and period of time, to aid beneficiaries in the preparation and presentation of their cases during verification and/or due process procedures and in the presentation and prosecution of claims under laws administered by VA.

2. VA may disclose on its own initiative any information in this system, except the names and home addresses of veterans and their dependents, which is relevant to a suspected or reasonably imminent violation of law, whether civil, criminal or regulatory in nature and whether arising by general or program statute or by regulation, rule or order issued pursuant thereto, to a Federal, State, local, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

3. VA may disclose information to private attorneys representing veterans rated incompetent in conjunction with issuance of Certificates of Incompetence, in the course of presenting evidence to a court, magistrate or administrative tribunal in matters of guardianship, inquests and commitments, and to probation and parole officers in connection with Court required duties.

4. VA may disclose information to a VA Federal fiduciary or a guardian ad litem in relation to his or her representation of a veteran, but only to the extent necessary to fulfill the duties of the VA Federal fiduciary or the guardian ad litem.

5. VA may disclose information to attorneys, insurance companies, employers, third parties liable or potentially liable under health plan contracts, and courts, boards, or commissions, but only to the extent necessary to aid VA in the preparation, presentation, and prosecution of claims authorized under Federal, State, or local laws, and regulations promulgated hereunder.

6. VA may disclose information in this system of records to the Department of Justice (DoJ), either on VA's initiative or in response to DoJ's request for the information, after either VA or DoJ determines that such information is relevant to DoJ's representation of the United States or any of its components in legal proceedings before a court or adjudicative body, provided that, in each case, the agency also determines prior to disclosure that disclosure of the records to the Department of Justice is a use of the information contained in the records that is compatible with the purpose for which VA collected the records. VA, on its own initiative, may disclose records in this system of records in legal proceedings before a court or administrative body after determining that the disclosure of the records to the court or administrative body is a use of the information contained in the records that is compatible with the purpose for which VA collected the records.

7. VA may disclose information to the National Archives and Records Administration (NARA) and General Services Administration (GSA) in records management inspections conducted under authority of title 44 United States Code.

8. VA may disclose information for the purposes identified below to a third party, except consumer reporting agencies, in connection with any proceeding for the collection of an amount owed to the United States by virtue of a person's participation in any benefit program administered by VA. Information may be disclosed under this routine use only to the extent that it is reasonably necessary for the following purposes: (a) To assist VA in the collection of costs of services provided individuals not entitled to such services; (b) to initiate civil or criminal legal actions for collecting amounts owed to the United States and (c) for prosecuting individuals who willfully or fraudulently obtained or seek to obtain title 38 medical benefits. This disclosure is consistent with 38 U.S.C. 5701(b)(6).

9. VA may disclose the name and address of a veteran, other information as is reasonably necessary to identify such veteran, and any information concerning the veteran's indebtedness to the United States by virtue of the person's participation in a benefits program administered by VA to a consumer reporting agency for purposes of assisting in the collection of such indebtedness, provided that the provisions of 38 U.S.C. 5701(g)(4) have been met.

10. VA may disclose information to individuals, organizations, private or public agencies, or other entities with whom VA has a contract or agreement to perform such services as VA may deem practicable for the purposes of laws administered by VA in order for the individual or entity with whom VA has an agreement or contract to perform the services of the contract or agreement. This routine use includes disclosures by the individual or entity performing the service for VA to any secondary individual or entity to perform an activity that is necessary for the individual or entity with whom VA has a contract or agreement to provide the service to VA.

11. The record of an individual who is covered by a system of records may be disclosed to a member of Congress, or a staff person acting for the member, when the member or staff person requests the record on behalf of and at the written request of the individual.

12. VA may disclose information to other Federal agencies to assist such agencies in preventing and detecting possible fraud or abuse by individuals in their operations and programs.

13. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons who VA determines are reasonably necessary to assist or carry out the Department's efforts to respond to the suspected or confirmed compromise and prevent, minimize, or remedy such harm. This routine use permits disclosure is required by the Memorandum from the Office of Management and Budget (M-07-16), dated May 22, 2007, of all systems of records of all federal agencies. This routine use also permits disclosures by the Department to respond to a suspected or confirmed data breach, including the conduct of any risk analysis or provision of credit protection services as provided in 38 U.S.C. 5724, as the terms are defined in 38 U.S.C. 5727.

III. Compatibility of the Proposed Routine Uses

The Privacy Act permits VA to disclose information about individuals without their consent for a routine use when the information will be used for a purpose that is compatible with the purpose for which we collected the information. In all of the routine use disclosures described above, the recipient of the information will use the information in connection with a matter relating to one of VA's programs or to provide a benefit to VA, or disclosure is required by law.

Under section 264, Subtitle F of Title II of the Health Insurance Portability and Accountability Act of 1996 (HIPAA), Public Law 104-191, 100 Stat. 1936, 2033-34 (1996), the United States Department of Health and Human Services (HHS) published a final rule, as amended, establishing Standards for Privacy of Individually-Identifiable Health Information, 45 CFR Parts 160 and 164. VA's Veterans Health Administration may not disclose individually-identifiable health information (as defined in HIPAA, 42 U.S.C. 1320(d)(6), and the HIPAA Privacy Rule, 45 CFR 164.501) pursuant to a routine use unless either: (a) the disclosure is required by law, or (b) the disclosure is permitted or required by the HIPAA Privacy Rule. The disclosures of individually-identifiable health information contemplated in the routine uses published in this system of records notice are permitted under the Privacy Rule or required by law. In accordance with the requirements of the Privacy Act, VA is publishing these routine uses and adding a preliminary paragraph to the routine uses portion of the system of records notice stating that any disclosure pursuant to the routine uses in this system of records notice must be either required by law or permitted by the Privacy Rule before VHA may disclose the covered information.

The notice of intent to publish an advance copy of the system notice has been sent to the appropriate Congressional committees and to the Director of the Office of Management and Budget (OMB) as required by 5 U.S.C. 552a(r) (Privacy Act) and guidelines issued by OMB (65 FR 77677), December 12, 2000.

Approved: March 11, 2008.
Gordon H. Mansfield,
Deputy Secretary of Veterans Affairs.

147VA16

System Name:

Enrollment and Eligibility Records—VA.

System Location:

Records are maintained at the Health Eligibility Center (HEC) in Atlanta, Georgia, the Austin Automation Center (AAC) in Austin, Texas, at each VA health care facility as described in the VA system of records entitled “Patient Medical Records—24VA19,” and at the Veteran Identification Card (VIC) National Card Management Directory (NCMD) located at the Hines, Illinois, and Silver Spring, Maryland VA facilities. Electronic and magnetic records are also stored at contracted facilities for storage and back-up purposes.

Categories of Individuals Covered By This System:

The records contain information on individuals who have applied for or who have received VA health care benefits under title 38, United States Code, chapter 17; the records also include veterans, their spouses and dependents as provided for in other provisions of title 38, United States Code.

Categories of Records In the System:

The categories of records in this system may include: Medical benefit applications, eligibility and enrollment information, including information obtained from Veterans Benefits Administration automated records such as the Compensation, Pension, Education and Rehabilitation Records—VA'' (58VA21/22), and VIC information including applicant's name, address(es), date of birth, Social Security number, race and ethnicity, claim number, ICN, applicant's image, preferred facility and facility requesting a VIC, names, addresses and phone numbers of persons to contact in the event of a medical emergency, family information including spouse and dependent(s) name(s), address(es) and Social Security number; applicant and spouse's employment information, including occupation, employer(s) name(s) and address(es); financial information concerning the applicant and the applicant's spouse including family income, assets, expenses, debts; third party health plan contract information, including health insurance carrier name and address, policy number and time period covered by policy; facility location(s) where treatment is provided; type of treatment provided (i.e., inpatient or outpatient); information about the applicant's military service (e.g., dates of active duty service, dates and branch of service, and character of discharge, combat service dates and locations, military decorations, POW status and military service experience including exposures to toxic substances); information about the applicant's eligibility for VA compensation or pension benefits, and the applicant's enrollment status and enrollment priority group. These records also include, but are not limited to, individual correspondence provided to the HEC by veterans, their family members and veterans' representatives such as Veteran Service Officers (VSO), copies of death certificates; form DD 214, Certificate of Release or Discharge from Active Duty; disability award letters; VA and other pension applications; VA Form 10-10EZ, Application for Health Benefits; VA Form 10-10EZR, Health Benefits Renewal; VA Form 10-10EC, Application for Extended Care Services; and workers compensation forms.

Authority for Maintenance of the System:

Title 38, United States Code, Sections 501(a), 1705, 1710, 1722, and 5317.

Purpose(s):

Information in this system of records is used to establish and maintain applicants' records necessary to support the delivery of health care benefits; establish applicants' eligibility for VA health care benefits; operate an annual enrollment system; provide eligible veterans with an identification card; collect from an applicant's health insurance provider for care of their nonservice-connected conditions; provide educational materials related to VA health care benefits, enrollment and eligibility; respond to veteran and non-veteran inquiries related to VA health care benefits, enrollment and eligibility; and compile management reports.

Routine Uses of Records Maintained In the System, Including Categories of Users and the Purposes of Such Uses:

To the extent that records contained in the system include information protected by 45 CFR parts 160 and 164 (i.e., individually identifiable health information), that information cannot be disclosed under a routine use unless there is also specific regulatory authority in 45 CFR parts 160 and 164 permitting disclosure.

1. VA may disclose information from this system of records, as deemed necessary and proper, to named individuals serving as accredited service organization representatives and other individuals named as approved agents or attorneys for a documented purpose and period of time, to aid beneficiaries in the preparation and presentation of their cases during the verification and/or due process procedures and in the presentation and prosecution of claims under laws administered by VA.

2. VA may disclose on its own initiative any information in this system, except the names and home addresses of veterans and their dependents, which is relevant to a suspected or reasonably imminent violation of law, whether civil, criminal or regulatory in nature and whether arising by general or program statute or by regulation, rule or order issued pursuant thereto, to a Federal, State, local, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

3. VA may disclose information from this system of records to private attorneys representing veterans rated incompetent in conjunction with issuance of Certificates of Incompetence, in the course of presenting evidence to a court, magistrate or administrative tribunal, in matters of guardianship, inquests and commitments; and to probation and parole officers in connection with court required duties.

4. VA may disclose information to a VA Federal fiduciary or a guardian ad litem in relation to his or her representation of a veteran only to the extent necessary to fulfill the duties of the VA Federal fiduciary or the guardian ad litem.

5. VA may disclose information to attorneys, insurance companies, employers, third parties liable or potentially liable under health plan contracts, and to courts, boards, or commissions, but only to the extent necessary to aid VA in the preparation, presentation, and prosecution of claims authorized under Federal, State, or local laws, and regulations promulgated thereunder.

6. VA may disclose information in this system of records to the Department of Justice (DoJ), either on VA's initiative or in response to DoJ's request for the information, after either VA or DoJ determines that such information is relevant to DoJ's representation of the United States or any of its components in legal proceedings before a court or adjudicative body, provided that, in each case, the agency also determines prior to disclosure that disclosure of the records to the Department of Justice is a use of the information contained in the records that is compatible with the purpose for which VA collected the records. VA, on its own initiative, may disclose records in this system of records in legal proceedings before a court or administrative body after determining that the disclosure of the records to the court or administrative body is a use of the information contained in the records that is compatible with the purpose for which VA collected the records.

7. VA may disclose information to the National Archives and Records Administration (NARA) and General Services Administration (GSA) in records management inspections conducted under authority of title 44 United States Code.

8. VA may disclose information for the purposes identified below to a third party, except consumer reporting agencies, in connection with any proceeding for the collection of an amount owed to the United States by virtue of a person's participation in any benefit program administered by VA. Information may be disclosed under this routine use only to the extent that it is reasonably necessary for the following purposes: (a) To assist VA in the collection of costs of services provided individuals not entitled to such services, (b) to initiate civil or criminal legal actions for collecting amounts owed to the United States, and (c) for prosecuting individuals who willfully or fraudulently obtained or seek to obtain title 38 medical benefits. This disclosure is consistent with 38 U.S.C. 5701(b)(6).

9. VA may disclose information such as the name and address of a veteran, or other information as is reasonably necessary to identify such veteran, and any information concerning the veteran's indebtedness to the United States by virtue of the person's participation in a benefits program administered by VA, to a consumer reporting agency for purposes of assisting in the collection of such indebtedness, provided that the provisions of 38 U.S.C. 5701(g)(4) have been met.

10. VA may disclose information to individuals, organizations, private or public agencies, or other entities with whom VA has a contract or agreement to perform such services as VA may deem practicable for the purposes of laws administered by VA in order for the individual or entity with whom VA has an agreement or contract to perform the services of the contract or agreement. This routine use includes disclosures by the individual or entity performing the service for VA to any secondary individual or entity to perform an activity that is necessary for the individual or entity with whom VA has a contract or agreement to provide the service to VA.

11. VA may disclose information from the record of an individual who is covered by a system of records to a member of Congress, or a staff person acting for the member, when the member or staff person requests the record on behalf of and at the written request of the individual.

12. VA may disclose information to other Federal agencies to assist such agencies in preventing and detecting possible fraud or abuse by individuals in their operations and programs.

13. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosure is required by the Memorandum from the Office of Management and Budget (M-07-16), dated May 22, 2007, of all systems of records of all Federal agencies. This routine use also permits disclosures by the Department to respond to a suspected or confirmed data breach, including the conduct of any risk analysis or provision of credit protection services as provided in 38 U.S.C. 5724, as the terms are defined in 38 U.S.C. 5727.

Policies and Practices for Storing, Retrieving, Accessing, Retaining and Disposing of Records In the System:

Storage:

Records are maintained on magnetic tape, magnetic disk, optical disk and paper at the HEC, VIC databases, VA medical centers, the NCMD databases, AAC, contract facilities, and at Federal Record Centers. In most cases, copies of back-up computer files are maintained at off-site locations and/or agencies with whom VA has a contract or agreement to perform such services, as VA may deem practicable.

Retrievability:

Records are retrieved by name, and/or Social Security number, ICN, military service number, claim folder number, correspondence tracking number, internal record number (DFN), facility number, or other assigned identifiers of the individuals on whom they are maintained.

Access:

1. In accordance with national and locally established data security procedures, access to enrollment information databases (HEC Legacy system and the Enrollment Database) is controlled by unique entry codes (access and verification codes). The user's verification code is automatically set to be changed every 90 days. User access to data is controlled by role-based access as determined necessary by supervisory and information security staff as well as by management of option menus available to the employee. Determination of such access is based upon the role or position of the employee and functionality necessary to perform the employee's assigned duties.

2. On an annual basis, employees are required to sign a computer access agreement acknowledging their understanding of confidentiality requirements. In addition, all employees receive annual privacy awareness and information security training. Access to electronic records is deactivated when no longer required for official duties. Recurring monitors are in place to ensure compliance with nationally and locally established security measures.

3. User access to the VIC National Card Management Directory database utilizes the national NT network authentication infrastructure. The external VIC vendor utilizes the One-VA VPN secured connection for access to VIC records.

4. Strict control measures are enforced to ensure that access to and disclosure from all records is limited to VA and the contractor's employees whose official duties warrant access to those files.

5. As required by the provisions of the HIPAA Privacy Rule, 45 CFR Parts 160 and 164, access to records by HEC employees is classified under functional category “Eligibility and Enrollment Staff.”

Safeguards:

1. Data transmissions between VA health care facilities, the HEC, the AAC, Silver Spring, and Hines databases are accomplished using the Department's secure wide area network. The software programs automatically flag records or events for transmission based upon functional requirements. Server jobs at each facility run continuously to check for data to be transmitted and/or incoming data which needs to be parsed to files on the receiving end. All messages containing data transmissions include header information that is used for validation purposes. The recipients of the messages are controlled and/or assigned to the mail group based on their role or position. Consistency checks in the software are used to validate the transmission, and electronic acknowledgment messages are returned to the sending application. The Department's Office of Cyber Security has oversight responsibility for planning and implementing computer security.

2. Working spaces and record storage areas at HEC, AAC, and the VIC processing locations are secured during all business hours, as well as during non-business hours. All entrance doors require an electronic pass card, for entry when unlocked, and entry doors are locked outside normal business hours. Visitors to the HEC are required to present identification, sign-in at a specified location and are issued a pass card that restricts access to non-sensitive areas. Visitors to the HEC are escorted by staff through restricted areas. At the end of the visit, visitors are required to turn in their badge. The building is equipped with an intrusion alarm system, which is activated during non-business hours. This alarm system is monitored by a private security service vendor. The office space occupied by employees with access to veteran records is secured with an electronic locking system, which requires a card for entry and exit of that office space. Access to the AAC is generally restricted to AAC staff, VA Central Office employees, custodial personnel, Federal Protective Service and authorized operational personnel through electronic locking devices. All other persons gaining access to the computer rooms are escorted.

3. Access to the VIC contractor secured work areas is also controlled by electronic entry devices, which require a card and manual input for entry and exit of the production space. The VIC contractor's building is also equipped with an intrusion alarm system and a security service vendor monitors the system.

4. Contract employees are required to sign a Business Associates Agreement (BAA) as required by the Health Insurance Portability and Accountability Act of 1996 as acknowledgement of mandatory provisions regarding the use and disclosure of protected health information. Employee and contractor access is deactivated when no longer required for official duties or upon termination of employment. Recurring monitors are in place to ensure compliance with nationally and locally established security measures.

5. Beneficiary's enrollment and eligibility information is transmitted from the Enrollment and Eligibility information system to VA health care facilities over the Department's secure computerized electronic communications system.

6. Only specific key staff have authorized access to the computer room. Programmer access to the information systems is restricted only to staff whose official duties require that level of access.

7. On-line data reside on magnetic media in the HEC and AAC computer rooms that are highly secured. Backup media are stored in the computer room within the same building and only information system staff and designated management staff have access to the computer room. On a weekly basis, backup media are stored in off-site storage by a media storage vendor. The vendor picks up and returns the media in a locked storage container; vendor personnel do not have key access to the locked container. The AAC has established a backup plan for the Enrollment system as part of a required Certification and Accreditation of the information system.

8. Any sensitive information that may be downloaded to personal computers or printed to hard copy format is provided the same level of security as the electronic records. All paper documents and informal notations containing sensitive data are shredded prior to disposal. All magnetic media (primary computer system) and personal computer disks are degaussed prior to disposal or release off-site for repair. The VIC contractor destroys all veteran identification data 30 days after the VIC card has been mailed to the veteran in accordance with contractual requirements.

9. All new HEC employees receive initial information security and privacy training; refresher training is provided to all employees on an annual basis. The HEC's Information Security Officer performs an annual information security audit and periodic reviews to ensure security of the system. This annual audit includes the primary computer information system, the telecommunication system, and local area networks. Additionally, the IRS performs periodic on-site inspections to ensure the appropriate level of security is maintained for Federal tax data.

10. Identification codes and codes used to access Enrollment and Eligibility information systems and records systems, as well as security profiles and possible security violations, are maintained on magnetic media in a secure environment at the Center. For contingency purposes, database back-ups on removable magnetic media are stored off-site by a licensed and bonded media storage vendor.

11. Contractors, subcontractors, and other users of the Enrollment and Eligibility Records systems will adhere to the same safeguards and security requirements to which HEC staff must comply.

Retention and Disposal:

Regardless of the record medium, all records are disposed of in accordance with the records retention standards approved by the Archivist of the United States, National Archives and Records Administration, and published in the VHA Records Control Schedule 10-1.

System Manager(s) and Addresses:

Official responsible for policies and procedures: Chief Business Officer (16), VA Central Office, 1722 I St., NW., Washington, DC 20420. Official maintaining the system: Director, Health Eligibility Center, 2957 Clairmont Road, Atlanta, Georgia 30329.

Notification Procedure:

Any individual who wishes to determine whether a record is being maintained in this system under his or her name or other personal identifier, or wants to determine the contents of such record, should submit a written request or apply in person to the Health Eligibility Center. All inquiries must reasonably identify the records requested. Inquiries should include the individual's full name, Social Security number, military service number, claim folder number and return address.

Record Access Procedures:

Individuals seeking information regarding access to and contesting of Enrollment and Eligibility Records may write to the Director, Health Eligibility Center, 2957 Clairmont Road, Atlanta, Georgia 30329.

Contesting Record Procedures:

(See Record Access procedures above).

Record Source Categories:

Information in the systems of records may be provided by the applicant; applicant's spouse or other family members or accredited representatives or friends; health insurance carriers; other Federal agencies; “Patient Medical Records—VA” (24VA19) system of records; “Veterans Health Information System and Technology Architecture (VistA) Records—VA” (79VA19); “Income Verification Records—VA” (89VA19); and Veterans Benefits Administration automated record systems, including “Veterans and Beneficiaries Identification and Records Location Subsystem—VA” (38VA23) and the “Compensation, Pension, Education and Rehabilitation Records—VA” (58VA21/22).

[FR Doc. E8-5956 Filed 3-24-08; 8:45 am]

BILLING CODE 8320-01-P